DEPARTMENT OF HOMELAND SECURITY

Federal Emergency Management Agency

[Docket ID FEMA-2018-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Date of modification | Community No.
Arkansas: Washington (FEMA Docket No.: B-1829) | City of Fayetteville (17-06-3792P) | The Honorable Lioneld Jordan, Mayor, City of Fayetteville, 113 West Mountain Street, Fayetteville, AR 72701 | Planning Department, 125 West Mountain Street, Fayetteville, AR 72701 | Aug. 13, 2018 | 050216
Colorado:
Adams (FEMA Docket No.: B-1829) | City of Commerce City (17-08-1290P) | The Honorable Sean Ford, Mayor, City of Commerce City, 7887 East 60th Avenue, Commerce City, CO 80022 | City Hall, 7887 East 60th Avenue, Commerce City, CO 80022 | Aug. 8, 2018 | 080006
Adams (FEMA Docket No.: B-1829) | Unincorporated areas of Adams County (17-08-1290P) | The Honorable Mary Hodge, Chair, Adams County Board of Commissioners, 4430 South Adams County Parkway, 5th Floor, Suite C5000A, Brighton, CO 80601 | Adams County Development and Engineering Services Department, 4430 South Adams County Parkway, Brighton, CO 80601 | Aug. 8, 2018 | 080001
Arapahoe (FEMA Docket No.: B-1829) | City of Centennial (18-08-0628P) | The Honorable Cathy Noon, Mayor, City of Centennial, 13133 East Arapahoe Road, Centennial, CO 80112 | Southeast Metro Stormwater Authority, 7437 South Fairplay Street, Centennial, CO 80112 | Aug. 3, 2018 | 080315
Broomfield (FEMA Docket No.: B-1829) | City and County of Broomfield (17-08-1518P) | The Honorable Randy Ahrens, Mayor, City and County of Broomfield, 1 Descombes Drive, Broomfield, CO 80020 | Engineering Department, 1 Descombes Drive, Broomfield, CO 80020 | Aug. 3, 2018 | 085073
El Paso (FEMA Docket No.: B-1829) | Unincorporated areas of El Paso County (18-08-0558P) | The Honorable Darryl Glenn, President, El Paso County Board of Commissioners, 200 South Cascade Avenue, Suite 100, Colorado Springs, CO 80903 | El Paso County Pikes Peak Regional Building Department, 2880 International Circle, Colorado Springs, CO 80910 | Aug. 6, 2018 | 080059
Jefferson (FEMA Docket No.: B-1825) | City of Arvada (17-08-1484P) | The Honorable Marc Williams, Mayor, City of Arvada, P.O. Box 8101, Arvada, CO 80001 | Engineering Department, 8101 Ralston Road, Arvada, CO 80001 | Jul. 27, 2018 | 085072
Weld (FEMA Docket No.: B-1829) | City of Brighton (17-08-1256P) | Mr. Philip Rodriguez, Manager, City of Brighton, 500 South 4th Avenue, Brighton, CO 80601 | City Hall, 500 South 4th Avenue, Brighton, CO 80601 | Jul. 26, 2018 | 080004
Weld (FEMA Docket No.: B-1829) | Unincorporated areas of Weld County (17-08-1256P) | The Honorable Steve Moreno, Chairman, Weld County Board of Commissioners, P.O. Box 758, Greeley, CO 80632 | Weld County Commissioner's Office, 915 10th Street, Greeley, CO 80632 | Jul. 26, 2018 | 080266
Florida:
Bay (FEMA Docket No.: B-1829) | Unincorporated areas of Bay County (17-04-2041P) | The Honorable William T. Dozier, Chairman, Bay County Board of Commissioners, 840 West 11th Street, Panama City, FL 32401 | Bay County Planning and Zoning Division, 840 West 11th Street, Panama City, FL 32401 | Aug. 1, 2018 | 120004
Collier (FEMA Docket No.: B-1829) | Unincorporated areas of Collier County (18-04-2026P) | The Honorable Andy Solis, Chairman, Collier County Board of Commissioners, 3299 Tamiami Trail East, Suite 303, Naples, FL 34112 | Collier County Growth Management Department, 2800 North Horseshoe Drive, Naples, FL 34104 | Aug. 7, 2018 | 120067
Duval (FEMA Docket No.: B-1829) | City of Jacksonville (17-04-7972P) | The Honorable Lenny Curry, Mayor, City of Jacksonville, 117 West Duval Street, Suite 400, Jacksonville, FL 32202 | Development Services Division, 214 North Hogan Street, Room 2100, Jacksonville, FL 32202 | Aug. 8, 2018 | 120077
Manatee (FEMA Docket No.: B-1829) | Unincorporated areas of Manatee County (18-04-2274P) | The Honorable Priscilla Trace, Chair, Manatee County Board of Commissioners, P.O. Box 1000, Bradenton, FL 34206 | Manatee County Building and Development Services Department, 1112 Manatee Avenue West, Bradenton, FL 34205 | Aug. 3, 2018 | 120153
Monroe (FEMA Docket No.: B-1829) | City of Marathon (17-04-7377P) | The Honorable Michelle Coldiron, Mayor, City of Marathon, 9805 Overseas Highway, Marathon, FL 33050 | Planning Department, 9805 Overseas Highway, Marathon, FL 33050 | Aug. 9, 2018 | 120681
Monroe (FEMA Docket No.: B-1829) | Village of Islamorada (18-04-2264P) | The Honorable Chris Sante, Mayor, Village of Islamorada, 86800 Overseas Highway, Islamorada, FL 33036 | Building Department, 86800 Overseas Highway, Islamorada, FL 33036 | Aug. 3, 2018 | 120424
Orange (FEMA Docket No.: B-1829) | City of Orlando (18-04-1385P) | The Honorable Buddy Dyer, Mayor, City of Orlando, 400 South Orange Avenue, Orlando, FL 32801 | Permitting Services Department, 400 South Orange Avenue, Orlando, FL 32801 | Jul. 30, 2018 | 120186
Orange (FEMA Docket No.: B-1829) | Unincorporated areas of Orange County (18-04-1385P) | The Honorable Teresa Jacobs, Mayor, Orange County, 201 South Rosalind Avenue, 5th Floor, Orlando, FL 32801 | Orange County Stormwater Management Department, 4200 South John Young Parkway, Orlando, FL 32839 | Jul. 30, 2018 | 120179
Osceola (FEMA Docket No.: B-1829) | Unincorporated areas of Osceola County (17-04-6937P) | The Honorable Viviana Janer, Chair, Osceola County Board of Commissioners, 1 Courthouse Square, Suite 4700, Kissimmee, FL 34741 | Osceola County Stormwater Department, 1 Courthouse Square, Suite 3100, Kissimmee, FL 34741 | Aug. 10, 2018 | 120189
Volusia (FEMA Docket No.: B-1825) | City of Daytona Beach (17-04-3592P) | The Honorable Derrick Henry, Mayor, City of Daytona Beach, 301 South Ridgewood Avenue, Daytona Beach, FL 32114 | Utilities Department, 125 Basin Street, Daytona Beach, FL 32114 | Jul. 27, 2018 | 125099
Volusia (FEMA Docket No.: B-1829) | City of Ormond Beach (18-04-1321P) | Ms. Joyce Shanahan, Manager, City of Ormond Beach, 22 South Beach Street, Ormond Beach, FL 32174 | City Hall, 22 South Beach Street, Ormond Beach, FL 32174 | Aug. 7, 2018 | 125136
Volusia (FEMA Docket No.: B-1825) | Unincorporated areas of Volusia County (17-04-3592P) | The Honorable Ed Kelley, Chairman, Volusia County Council, 123 West Indiana Avenue, Deland, FL 32720 | Volusia County Building and Zoning Division, 123 West Indiana Avenue, Deland, FL 32720 | Jul. 27, 2018 | 125155
Volusia (FEMA Docket No.: B-1829) | Unincorporated areas of Volusia County (18-04-1321P) | The Honorable Ed Kelley, Chairman, Volusia County Council, 123 West Indiana Avenue, DeLand, FL 32720 | Volusia County Building and Zoning Department, 123 West Indiana Avenue, DeLand, FL 32720 | Aug. 7, 2018 | 125155
Wakulla (FEMA Docket No.: B-1829) | Unincorporated areas of Wakulla County (17-04-6262P) | The Honorable Ralph Thomas, Chairman, Wakulla County Board of Commissioners, 3093 Crawfordville Highway, Crawfordville, FL 32327 | Wakulla County Planning and Zoning Department, 3095 Crawfordville Highway, Crawfordville, FL 32327 | Jul. 27, 2018 | 120315
Georgia: Effingham (FEMA Docket No.: B-1829) | Unincorporated areas of Effingham County (17-04-6088P) | The Honorable Wesley Corbitt, Chairman, Effingham County Board of Commissioners, 601 North Laurel Street, Springfield, GA 31329 | Effingham County Planning and Engineering Department, 601 North Laurel Street, Springfield, GA 31329 | Jul. 26, 2018 | 130076
Illinois: Winnebago (FEMA Docket No.: B-1829) | Village of Machesney Park (17-05-3855P) | Mr. Tim Savage, Administrator, Village of Machesney Park, 300 Roosevelt Road, Machesney Park, IL 61115 | Community Development Department, 300 Roosevelt Road, Machesney Park, IL 61115 | Aug. 3, 2018 | 171009
Massachusetts: Essex (FEMA Docket No.: B-1834) | City of Lynn (18-01-0336P) | The Honorable Thomas M. McGee, Mayor, City of Lynn, 3 City Hall Square, Room 306, Lynn, MA 01901 | Inspectional Services Department, 3 City Hall Square, Room 401, Lynn, MA 01901 | Aug. 13, 2018 | 250088
Montana: Lake (FEMA Docket No.: B-1829) | Unincorporated areas of Lake County (18-08-0356P) | The Honorable Gale Decker, Chairman, Lake County Board of Commissioners, 106 4th Avenue East, Room 211, Polson, MT 59860 | Lake County Courthouse, 106 4th Avenue East, Polson, MT 59860 | Aug. 3, 2018 | 300155
Oklahoma: Oklahoma (FEMA Docket No.: B-1829) | City of Edmond (18-06-0827P) | The Honorable Charles Lamb, Mayor, City of Edmond, P.O. Box 2970, Edmond, OK 73034 | Engineering Department, Stormwater Management, 10 South Littler Avenue, Edmond, OK 73034 | Aug. 9, 2018 | 400252
Pennsylvania:
Lancaster (FEMA Docket No.: B-1825) | City of Lancaster (17-03-2630P) | The Honorable Danene Sorace, Mayor, City of Lancaster, P.O. Box 1599, Lancaster, PA 17608 | City Hall, 120 North Duke Street, Lancaster, PA 17608 | Aug. 3, 2018 | 420552
Lancaster (FEMA Docket No.: B-1825) | Township of East Lampeter (17-03-2630P) | The Honorable David Buckwalter, Chairman, Township of East Lampeter Board of Supervisors, 2250 Old Philadelphia Pike, Lancaster, PA 17602 | Township Hall, 2250 Old Philadelphia Pike, Lancaster, PA 17602 | Aug. 3, 2018 | 421771
Lancaster (FEMA Docket No.: B-1825) | Township of Lancaster (17-03-2630P) | Mr. William M. Laudien, Manager, Township of Lancaster, 1240 Maple Avenue, Lancaster, PA 17603 | Municipal Office, 1240 Maple Avenue, Lancaster, PA 17603 | Aug. 3, 2018 | 420553
Lancaster (FEMA Docket No.: B-1825) | Township of Manheim (17-03-2630P) | Mr. Sean P. Molchany, Manager-Secretary, Township of Manheim, 1840 Municipal Drive, Lancaster, PA 17601 | Planning and Zoning Department, 1840 Municipal Drive, Lancaster, PA 17601 | Aug. 3, 2018 | 420556
Texas:
Bexar (FEMA Docket No.: B-1829) | City of San Antonio (18-06-1577X) | The Honorable Ron Nirenberg, Mayor, City of San Antonio, P.O. Box 839966, San Antonio, TX 78283 | Transportation and Capital Improvements Department, Stormwater Division, 1901 South Alamo Street, 2nd Floor, San Antonio, TX 78204 | Aug. 6, 2018 | 480045
Dallas (FEMA Docket No.: B-1829) | City of Irving (17-06-4073P) | The Honorable Rick Stopfer, Mayor, City of Irving, 825 West Irving Boulevard, Irving, TX 75060 | Capital Improvement Program Department, Engineering Section, 825 West Irving Boulevard, Irving, TX 75060 | Jul. 30, 2018 | 480180
Denton (FEMA Docket No.: B-1829) | Unincorporated areas of Denton County (17-06-4327P) | The Honorable Mary Horn, Denton County Judge, 110 West Hickory Street, 2nd Floor, Denton, TX 76201 | Denton County Mary and Jim Horn Government Center, 1505 East McKinney Street, Suite 175, Denton, TX 72509 | Aug. 1, 2018 | 480774
Harris (FEMA Docket No.: B-1829) | Unincorporated areas of Harris County (18-06-0478P) | The Honorable Edward M. Emmett, Harris County Judge, 1001 Preston Street, Suite 911, Houston, TX 77002 | Harris County Permit Department, 10555 Northwest Freeway, Suite 120, Houston, TX 77092 | Jul. 30, 2018 | 480287
Johnson (FEMA Docket No.: B-1829) | City of Burleson (17-06-2805P) | The Honorable Ken Shetter, Mayor, City of Burleson, 141 West Renfro Street, Burleson, TX 76028 | Public Works Department, 725 Southeast John Jones Drive, Burleson, TX 76028 | Aug. 10, 2018 | 485459
Virginia:
Fauquier (FEMA Docket No.: B-1834) | Unincorporated areas of Fauquier County (17-03-2627P) | Mr. Paul S. McCulla, Fauquier County Administrator, 10 Hotel Street, Suite 204, Warrenton, VA 20186 | Fauquier County Zoning and Development Services Department, 29 Ashby Street, Suite 310, Warrenton, VA 20186 | Aug. 9, 2018 | 510055
Loudoun (FEMA Docket No.: B-1834) | Unincorporated areas of Loudoun County (17-03-2543P) | Mr. Tim Hemstreet, Loudoun County Administrator, 1 Harrison Street, Southeast, Leesburg, VA 20175 | Loudoun County Government Center, 1 Harrison Street Southeast, Leesburg, VA 20175 | Aug. 10, 2018 | 510090
Stafford (FEMA Docket No.: B-1829) | Unincorporated areas of Stafford County (17-03-2523P) | Mr. Thomas C. Foley, Stafford County Administrator, 1300 Courthouse Road, Stafford, VA 22554 | Stafford County Department of Code Administration, 1300 Courthouse Road, Stafford, VA 22554 | Jul. 30, 2018 | 510154

[FR Doc. 2018-19330 Filed 9-5-18; 8:45 am]

BILLING CODE 9110-12-P